DEPARTMENT OF TRANSPORTATION

Maritime Administration

[Docket No. MARAD-2025-1026]

Request for Comments on the Renewal of a Previously Approved Information Collection: Seamen's Claims, Administrative Action, and Litigation

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0522 (Seamen's Claims, Administrative Action, and Litigation) is used to evaluate injury claims made by seamen working aboard government-owned vessels. MARAD is required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Cameryn Miller, 202-641-5352, Office of Financial Approvals and Marine Insurance (MAR-770), U.S. Maritime Administration, 1200 New Jersey Avenue SE, Washington, DC 20590, Email: Cameryn.miller@dot.gov.

SUPPLEMENTARY INFORMATION:

Title: Seamen's Claims, Administrative Action, and Litigation.

OMB Control Number: 2133-0522.

Type of Request: Extension, without change, of a previously approved collection.

Abstract: Pursuant to MARAD regulations 46 CFR part 327, this information collection provides respondents an opportunity to file a claim for injury or illness sustained while serving as masters or members of a crew on board a vessel owned or operated by the United States. MARAD personnel will review a respondent's information and determine agency liability and payment.

Respondents: Seamen who suffered injury or illness while employed on U.S. owned or operated vessels, surviving dependents, beneficiaries, or legal representatives of the officers or crew members who died aboard these vessels.

Affected Public: Individuals or households.

Estimated Number of Respondents: 15.

Estimated Number of Responses: 15.

Estimated Hours per Response: 12.5.

Annual Estimated Total Annual Burden Hours: 188.

Frequency of Response: Once Annually.

Authority: The Paperwork Reduction Act of 1995; 44 U.S.C. Chapter 35, as amended; and 49 CFR 1.49.)

By Order of the Maritime Administration.
Gabriel Chavez,
Secretary, Maritime Administration.

[FR Doc. 2025-22760 Filed 12-12-25; 8:45 am]

BILLING CODE 4910-81-P